DEPARTMENT OF THE INTERIOR

Fish and Wildlife Service

Receipt of Application To Amend West Fork Timber Company's Endangered Species Act Incidental Take Permit for Western Washington To Include Canada Lynx and Bull Trout

AGENCY: Fish and Wildlife Service, Interior.

ACTION: Notice.

SUMMARY: This notice advises the public, other agencies, and Tribes that the Fish and Wildlife Service (Service) has received a request to add Canada lynx (Lynx canadensis) and bull trout (Salvelinus confluentus) to the list of species covered by Endangered Species Act incidental take permit PRT-777837, issued to the West Fork Timber Company, LLC (formerly Murray Pacific Corporation). This request is provided for under the Implementation Agreement for the Habitat Conservation Plan (Plan) accompanying the incidental take permit, dated September 24, 1993, and the Amendment to the Implementation Agreement, dated June 26, 1995. This request applies to forest management activities on West Fork Timber Company lands located in the Mineral Block of eastern Lewis County, west of the Cascade Mountain Range in the State of Washington (covered lands). The purpose of this notice is to seek comments from the public, other agencies, and Tribes on the Service's proposed permit amendment. We specifically request that comments be focused on substantive information relevant to bull trout and Canada lynx that could affect the Service's decision to amend this permit.

DATES: Written comments must be received on or before November 15, 2001.

ADDRESSES: Comments and requests for further information should be addressed to Ms. Andrea LaTier, Fish and Wildlife Biologist, U.S. Fish and Wildlife Service, 510 Desmond Drive, SE., Suite 102, Lacey, Washington, 98503, phone (360) 753-9593, fax (360) 753-9518.

SUPPLEMENTARY INFORMATION:

Document Availability

All documents cited in this notice and comments received will be available for public inspection by appointment during normal business hours (8 a.m. to 5 p.m., Monday through Friday) at the office listed under ADDRESSES.

Background

On September 24, 1993, the Service issued incidental take permit PRT-777837 (permit) to the West Fork Timber Company (West Fork), pursuant to section 10(a)(1)(B) of the Endangered Species Act (Act) of 1973, as amended (16 U.S.C. 1532 et seq.). The Plan and an Environmental Assessment associated with the original permit decision analyzed the effects that implementing the Plan would have on listed and unlisted species. The original permit authorized incidental take of the threatened northern spotted owl (Strix occidentalis caurina), in the course of otherwise legal forest management activities within the range of the northern spotted owl that occurs on the covered lands. This permit was amended on June 26, 1995, to authorize incidental take of listed species, in addition to the owl, that may occur on West Fork lands covered under the permit, with an Amendment to the Plan and an associated Environmental Assessment, which analyzed the effects to habitats of listed and unlisted species expected to result from amending West Fork's permit. Species covered by this first amendment to the permit included the marbled murrelet (Brachyramphus marmoratus marmoratus), bald eagle (Haliaeetus leucocephalus), grizzly bear (Ursus arctos = U.a. horribilis), and gray wolf (Canis lupus).

On March 24, 2000, the Service listed the Canada lynx as a threatened species throughout its range in the contiguous United States (65 FR 16051). The bull trout was listed as a threatened species throughout the coterminous United States on November 1, 1999 (64 FR 58909). On September 4, 2001, West Fork requested that the Canada lynx and bull trout be added to their permit. The Service is proposing to respond to this request and determine if adding the Canada lynx and bull trout to the West Fork permit is appropriate.

Pursuant to the Plan and Amended Plan (Plans), and the Implementation Agreement and Amended Implementation Agreement (Agreements), West Fork received assurances from the Service that additional species could be added to the permit upon their listing under the Act in accordance with the Plans and Agreements. The Amended Implementation Agreement states:

The Incidental Take Permit for currently listed species addressed in the Amended Habitat Conservation Plan has been issued contemporaneously with the signing of this Amended Agreement. Thereafter, each species that may use the types of habitats which occur on the Permit Area and which is listed as threatened or endangered under the Endangered Species Act during the term of this Amended Agreement, shall be added to the Incidental Take Permit within 60 days of receipt by [the] Fish and Wildlife Service and National Marine Fisheries Services of a written request from Murray Pacific, unless within said 60-day period [the] Fish and Wildlife Service or National Marine Fisheries Service determines that adding such species to the Incidental Take Permit would appreciably reduce the likelihood of its survival and recovery in the wild because [the] Fish and Wildlife Service and National Marine Fisheries Service reasonably finds that relevant factors exist, including: (1) The size of the species' population or range is very small in relation to the Permit Area, (2) the percentage of the species' population or range adversely affected by the Amended Habitat Conservation Plan and Incidental Take Permit applicable to the Permit Area is very large in relation to the entire population or range of the species, (3) the ecological importance of the affected population or range is very significant, and (4) the adverse effects of the Amended Habitat Conservation Plan and Incidental Take Permit to the affected population or range would be very severe. If the relevant factors are found to exist, the responsible Agency in addition will determine whether a meaningful improvement in the likelihood of the species' survival in the wild can be achieved by additional mitigation in the reserve areas or other adjustments in the Amended Habitat Conservation Plan and Incidental Take Permit covering the Permit Area. Unless appropriated funds are not available, the responsible Agency shall provide the appropriate additional mitigation or other adjustments in a timely manner and amend the Incidental Take Permit to include the affected species. If appropriated funds are not available, the responsible Agency in a timely manner shall use all other available means, including non-governmental sources of funds and other alternative methods of mitigation or adjustment, to achieve the appropriate additional mitigation and amend the Incidental Take Permit to cover the particular species.

Therefore, according to the Agreements for the West Fork Plans, if any species that uses the habitats addressed in the Plans that was unlisted at the time of permit issuance subsequently becomes listed under the Act, West Fork may request a permit amendment to have the species added to their permit with respect to their covered lands. Under the terms of the Plans and Agreements, the Service would add the newly listed species to West Fork's permit without requiring additional mitigation unless the best scientific and commercial data available demonstrate that doing so would result in the appreciable reduction of the likelihood of the species' survival and recovery in the wild.

To determine whether adding bull trout and Canada lynx to the permit would appreciably reduce the likelihood of their survival and recovery in the wild, the Service will follow the section 7 consultation process under the Act. The Service will also determine whether this permit amendment meets each of the issuance criteria described in section 10(a)(2)(B) of the Act.

At this time, the Service is relying on the existing Environmental Assessments and subsequent section 7 Biological Opinions, which we incorporate by reference, as the analyses and conclusions therein are still accurate. These analyses and conclusions, in addition to any comments received as a result of this notice, the results of the section 7 consultation process, and the determination of compliance with the issuance criteria described in section 10(A)(2)(B) will form the basis upon which the decision to amend permit PRT-777837 will be made. Since these analyses and conclusions were made, the Service has learned more about the specific habitat requirements of both bull trout and Canada lynx. However, this information does not alter or invalidate the original analyses and conclusions. Therefore, the Service requests that comments specifically address any additional information regarding bull trout and Canada lynx that would preclude amending this permit.

In summary, Canada lynx are typically found in areas where its primary prey species, the snowshoe hare (Lepus americanus), occurs in relative abundance and areas that receive deep winter snows, both key elements to the survival of the species. Lynx occupy the boreal, sub-boreal and western montane forests of North America and use a variety of forest types. They forage in early-successional forests and den in mature forests. Resident animals primarily occupy high elevation landscapes containing a mosaic of successional vegetation stages necessary to satisfy their diverse habitat requirements. Dispersing individuals will travel through a range of elevations depending on the availability of prey.

The West Fork covered lands most likely to support the Canada lynx would be the higher elevation lands in proximity to Late Seral Reserves (LSRs) managed by the U.S. Forest Service that border West Fork's ownership. Within these LSRs the Service expects the amount of early seral forest to decrease while the amount of complex forest is expected to increase. Additional late seral forest is anticipated to develop on the West Fork covered lands due to conservation measures associated with the Reserve Areas set aside by West Fork for development of northern spotted owl habitat and functional riparian habitat.

Bull trout occupy a variety of habitat types during their life cycle but typically are associated with pools and large woody debris. Young-of-the-year are primarily bottom dwellers in shallow, slow backwater areas associated with large woody debris. Older individuals move to deeper and faster water, but are typically still associated with obstructive debris. Adults show a strong preference for deep, cold pools and are seldom found in streams with temperatures exceeding 18 degrees Celsius. At the present time, it is unlikely that bull trout inhabit any stream on the West Fork covered lands due to the presence of dams that prevent their migration into this area.

Should bull trout gain future access to the West Fork covered lands, the protected riparian habitat areas defined in the Plans are expected to gradually improve habitat conditions for this species. Results of the watershed planning activities conducted by West Fork on the covered lands should promote the development of large woody debris, increase shading, and decrease sediment inputs, all expected to favor bull trout colonization of the area. The anticipated lower fine sediment proportions in the substrate during the spawning season may also encourage use of the covered lands by bull trout.

This notice is provided pursuant to section 10(a) of the Endangered Species Act and the regulations of the National Environmental Policy Act of 1969, as amended (40 CFR 1506.6). All comments that we receive, including names and addresses, will become part of the official administrative record and may be made available to the public. We will evaluate West Fork's request for an amendment and comments submitted thereon, along with the documents associated with the permit, to determine whether the application meets the requirements of the National Environmental Policy Act regulations and section 10(a) of the Endangered Species Act. If we determine that those requirements are met, we will amend permit PRT-777837 for incidental take of Canada lynx and bull trout. We will make our final decision no sooner than 30 days from the date of this notice.

Dated: October 1, 2001.
Rowan W. Gould,
Deputy Regional Director, Fish and Wildlife Service, Region 1, Portland, Oregon.

[FR Doc. 01-25952 Filed 10-15-01; 8:45 am]

BILLING CODE 4310-55-P